DEPARTMENT OF TRANSPORTATION

Federal Aviation Administration

14 CFR Part 39

[Docket No. FAA-2005-23007; Directorate Identifier 2005-NM-013-AD]

RIN 2120-AA64

Airworthiness Directives; Airbus Model A310-200 and -300 Series Airplanes

AGENCY: Federal Aviation Administration (FAA), Department of Transportation (DOT).

ACTION: Notice of proposed rulemaking (NPRM).

SUMMARY: The FAA proposes to adopt a new airworthiness directive (AD) for certain Airbus Model A310-200 and -300 series airplanes. This proposed AD would require repetitive inspections for cracks and corrosion of the areas behind the scuff plates below the passenger/crew doors and bulk cargo door, and repair of any cracked or corroded part. This proposed AD also would require repetitive inspections for cracks of the holes of the corner doublers, the fail-safe ring, and the door frames of the passenger/crew door structures. This proposed AD is prompted by reports of corrosion behind the scuff plates at passenger/crew doors and the bulk cargo door and fatigue cracks on the corner doublers of the forward and aft passenger/crew door frames. We are proposing this AD to prevent such corrosion and fatigue cracking, which could result in reduced structural integrity of the door surroundings.

DATES: We must receive comments on this proposed AD by December 21, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street SW., Nassif Building, room PL-401, Washington, DC 20590.

• By fax: (202) 493-2251.

• Hand Delivery: Room PL-401 on the plaza level of the Nassif Building, 400 Seventh Street SW., Washington, DC, between 9 a.m. and 5 p.m., Monday through Friday, except Federal holidays.

For service information identified in this proposed AD, contact Airbus, 1 Rond Point Maurice Bellonte, 31707 Blagnac Cedex, France.

You can examine the contents of this AD docket on the Internet at http://dms.dot.gov, or in person at the Docket Management Facility, U.S. Department of Transportation, 400 Seventh Street SW., room PL-401, on the plaza level of the Nassif Building, Washington, DC. This docket number is FAA-2005-23007; the directorate identifier for this docket is 2005-NM-013-AD.

FOR FURTHER INFORMATION CONTACT: Rosanne Ryburn, Aerospace Engineer, International Branch, ANM-116, FAA, Transport Airplane Directorate, 1601 Lind Avenue, SW., Renton, Washington 98055-4056; telephone (425) 227-2139; fax (425) 227-1149.

SUPPLEMENTARY INFORMATION:

Comments Invited

We invite you to submit any relevant written data, views, or arguments regarding this proposed AD. Send your comments to an address listed under ADDRESSES. Include “Docket No. FAA-2005-23007; Directorate Identifier 2005-NM-013-AD” at the beginning of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of our docket Web site, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

Examining the Docket

You can examine the AD docket on the Internet at http://dms.dot.gov, or in person at the Docket Management Facility Office between 9 a.m. and 5 p.m., Monday through Friday, except Federal holidays. The Docket Management Facility Office (telephone (800) 647-5227) is located on the plaza level of the Nassif Building at the DOT street address stated in the ADDRESSES section. Comments will be available in the AD docket shortly after the DMS receives them.

Discussion

The Direction Générale de l'Aviation Civile (DGAC), which is the airworthiness authority for France, notified us that an unsafe condition may exist on certain Airbus Model A310-200 and -300 series airplanes. The DGAC advises that it received reports indicating that corrosion was found behind the scuff plates at passenger/crew doors and the bulk cargo door. The DGAC also advises that results of structural fatigue testing have revealed that cracks were found on the corner doublers of the forward and aft passenger/crew door frames; and, after various simulated flights, on the fail-safe ring and frames 14 and 16A of the forward passenger/crew door. After 50,000 simulated flights, cracks measuring between 8.0 millimeters (mm) and 109.0 mm were found on the forward door frames and fail-safe ring. After 60,493 simulated flights, a 53.0 mm crack was found on the mid door frame. After 106,000 simulated flights, a 32.0 mm crack was found on the aft door frame. In all cases, the cracks originated at the fastener holes. In addition, cracks originating from corner doubler edges were found at the aft passenger/crew doors.

Such corrosion and fatigue cracking, if not detected and corrected, could result in reduced structural integrity of the door surroundings.

Other Relevant Rulemaking

We have previously issued AD 97-11-03, amendment 39-10032 (62 FR 28325, May 23, 1997), applicable to all Airbus Model A300 series airplanes. That AD requires inspections of the lower door surrounding structure to detect cracks and corrosion; inspections to detect cracking of the holes of the corner doublers, the fail-safe ring, and the door frames of the door structures; and repair if necessary. That AD also requires modification of the passenger/crew door frames, which terminates certain inspections.

We also previously issued AD 98-16-05, amendment 39-10680 (63 FR 40812, July 31, 1998), applicable to all Airbus Model A300-600 series airplanes. That AD requires inspections of the areas behind the scuff plates below the passenger/crew doors and bulk cargo door to detect cracks and corrosion; inspections to detect cracking of the holes of the corner doublers, the fail-safe ring, and the door frames of the door structures; and repair if necessary. In addition, that AD provides for an optional terminating action for certain inspections. We are considering further rulemaking to mandate the optional terminating action.

Relevant Service Information

Airbus has issued the service bulletins in the following table:

Service Bulletins
Airbus Service Bulletin— | Describes procedures for—
A310-53-2030, Revision 06, dated July 2, 1996 | Doing initial inspections for cracks and corrosion of the areas behind the scuff plates below the passenger/crew doors and bulk cargo door, and repairing any cracked or corroded part.
A310-53-2041, Revision 02, dated July 2, 1996 | Doing repetitive inspections for cracks and corrosion of the areas behind the scuff plates below the passenger/crew doors and bulk cargo door, and repairing any cracked or corroded part.
A310-53-2037, Revision 02, dated November 27, 2000 | Doing repetitive inspections for cracks of the holes of the corner doublers, the fail-safe ring, and the door frames of the passenger/crew door structures, and repairing any cracked part.
A310-53-2017, Revision 09, dated May 17, 2004 | Modifying the passenger/crew door structures, which ends the repetitive inspections of the holes of the corner doublers, fail-safe ring, and the door frames for certain airplanes. The modification includes cold expansion of fastener holes; a ROTO test; installation of new oversize fasteners and modified brackets; and installation of an additional steel doubler.

Accomplishing the actions specified in the service information is intended to adequately address the unsafe condition. The DGAC mandated the service information and issued French airworthiness directives 1991-132-124(B) R1, issued November 29, 2000, and F-2004-103, issued July 7, 2004, to ensure the continued airworthiness of these airplanes in France.

FAA's Determination and Requirements of the Proposed AD

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. We have examined the DGAC's findings, evaluated all pertinent information, and determined that we need to issue an AD for products of this type design that are certificated for operation in the United States. Therefore, we are proposing this AD, which would require accomplishing the applicable actions specified in the service information described previously, except as discussed under “Differences Between the Proposed AD, French Airworthiness Directive, and Service Bulletins.”

Differences Between the Proposed AD, French Airworthiness Directive, and Service Bulletins

Airbus Service Bulletin A310-53-2030 also does not list a grace period for certain compliance times. This proposed AD adds a grace period to certain compliance times. We find that a grace period will keep airplanes from being grounded unnecessarily.

Airbus Service Bulletins A310-53-2041 and A310-53-2037 specify repetitive inspections at “every” specified interval; however, this proposed AD would require compliance “at intervals not to exceed” the time specified in the service bulletin. These service bulletins also specify compliance times in “flights.” This proposed AD would specify those times as flight cycles. In addition, Airbus Service Bulletin A310-53-2037 does not specify a starting date for the threshold for the initial inspections. This proposed AD would require compliance before the specified compliance time after the effective date of this AD.

Costs of Compliance

The following table provides the estimated costs for U.S. operators to comply with this proposed AD. The average labor rate per hour is $65.

Estimated Costs
Action | Work hours | Parts | Cost per airplane | Number of U.S.-registered airplanes | Fleet cost
Initial inspections behind scuff plates (for all airplanes) | 26 | None | $1,690 | 46 | $77,740.
Repetitive inspections behind scuff plates, per inspection cycle (for all airplanes) | 26 | None | $1,690 | 46 | $77,740, per inspection cycle.
Inspections of corner doublers, fail-safe ring, and door frames, per inspection cycle | Between 4 and 50 depending on kit purchased | None | Between $260 and $3,250 | 46 | Between $11,960, and $149,500 per inspection cycle.
Terminating modification for repetitive inspection of corner doublers, fail-safe ring, and door frames | Between 8 and 55 depending on kit purchased | Between $506 and $6,098 depending on kit purchased | Between $1,026 and $9,673 | 46 | Between $47,196 and $444,958.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 0130132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 401013, 44701.

§ 39.13 [Amended]

2. The Federal Aviation Administration (FAA) amends § 39.13 by adding the following new airworthiness directive (AD):

Airbus: Docket No. FAA-2005-23007; Directorate Identifier 2005-NM-013-AD.

Comments Due Date

(a) The FAA must receive comments on this AD action by December 21, 2005.

Affected ADs

(b) None.

Applicability

(c) This AD applies to Airbus Model A310-203, -204, -221, and -222 airplanes; and Airbus Model A310-304, -322, -324, and -325 airplanes; certificated in any category; excluding those airplanes on which Airbus Modification 5068, 7201, and 7298 have been incorporated in production.

Unsafe Condition

(d) This AD was prompted by reports of corrosion behind the scuff plates at passenger/crew doors and the bulk cargo door and fatigue cracks on the corner doublers of the forward and aft passenger/crew door frames. We are issuing this AD to prevent such corrosion and fatigue cracking, which could result in reduced structural integrity of the door surroundings.

Compliance

(e) You are responsible for having the actions required by this AD performed within the compliance times specified, unless the actions have already been done.

Initial Inspections Behind Scuff Plates

(f) Do initial inspections (i.e., non-destructive tests) for cracks and corrosion of the areas behind the scuff plates below the passenger/crew doors and bulk cargo door, in accordance with the Accomplishment Instructions of Airbus Service Bulletin A310-53-2030, Revision 06, dated July 2, 1996. Do the inspections at the applicable time specified in paragraphs (f)(1) and (f)(2) of Table 1 of this AD. If a records check cannot positively identify if the applicable modification or service information specified in paragraphs (f)(1) and (f)(2) of this AD has been done, assume that it has not.

Table 1.—Compliance Time Requirements for Initial Inspections Behind Scuff Plates
For airplanes on which Modification 5382S6526 for the forward doors and Modification 5382D4741 for all other doors— | And— | Inspect—
(1) Have been incorporated in production | None | Within 108 months after first flight.
(2) Have not been incorporated in production | (i) Airbus Service Information Letter (SIL) A300-53-033, Revision 2, dated November 23, 1984, for all doors, was not followed; or Airbus Service Bulletin A310-53-2004, Revision 2, March 9, 1984 (only applicable for the forward doors), was not done | Within 48 months since the date of issuance of the original standard Airworthiness Certificate or the date of issuance of the original Export Certificate of Airworthiness, or within 12 months after the effective date of this AD, whichever occurs later.
| (ii) Airbus SIL A300-53-033, Revision 2, dated November 23, 1984, for all doors, was followed; or Airbus Service Bulletin A310-53-2004, Revision 2, dated March 9, 1984 (only applicable for the forward doors), was done | Within 60 months since the date of issuance of the original Airworthiness Certificate or the date of issuance of the original Export Certificate of Airworthiness, or within 12 months after the effective date of this AD, whichever occurs later.
| (iii) Airbus SIL A300-53-033, Revision 2, dated November 23, 1984, for all doors, was followed; or Airbus Service Bulletin A310-53-2004, Revision 2, dated March 9, 1984 (only applicable for the forward doors), was done more than 48 months ago as of the effective date of this AD | Within 12 months after the effective date of this AD.

Repetitive Inspections Behind Scuff Plates

(g) Following the initial inspection required by paragraph (f) of this AD, do repetitive inspections (i.e., non-destructive tests) for cracks and corrosion of the areas behind the scuff plates below the passenger/crew doors and bulk cargo door, in accordance with the Accomplishment Instructions of Airbus Service Bulletin A310-53-2041, Revision 02, dated July 2, 1996. Repeat the inspections at the applicable times specified in paragraphs (g)(1) through (g)(4) of Table 2 of this AD.

Table 2.—Compliance Time Requirements for Repetitive Inspections Behind Scuff Plates
For— | At— | Inspect at intervals not to exceed— | Unless in case of corrosion removal, then inspect at intervals not to exceed—
(1) All airplanes | The forward passenger/crew doors and the bulk cargo door | 60 months | None.
(2) All airplanes | The aft passenger/crew doors, except the upper and lower edges of the door frame panel cutout | 60 months | None.
(3) Model A310-203, -204, -221, and -222 airplanes | The aft passenger/crew doors, the upper and lower edges of the door frame panel cutout | 60 months or 12,000 flight cycles, whichever occurs first | 60 months or 9,600 flight cycles, whichever occurs first.
(4) Model A310-304, -322, -324, and -325 airplanes | The aft passenger/crew doors, the upper and lower edges of the door frame panel cutout | 60 months or 7,000 flight cycles, whichever occurs first | 60 months or 5,600 flight cycles, whichever occurs first.

Repetitive Inspections of Corner Doublers, Fail-Safe Ring, and Door Frames

(h) Do inspections (i.e., rotating probe, x-ray, and general visual, as applicable) for cracks of the holes of the corner doublers, the fail-safe ring, and the door frames of the passenger/crew door structures, in accordance with the Accomplishment Instructions of Airbus Service Bulletin A310-53-2037, Revision 02, dated November 27, 2000. Do the inspections at the applicable times specified in paragraphs (h)(1) through (h)(3) of Table 3 of this AD, until the modification required by paragraph (k) of this AD is done.

Table 3.—Compliance Time Requirements for Repetitive Inspections of Corner Doublers, Fail-Safe Ring, and Door Frames
For— | Inspect— | And—
(1) The upper corners of the forward doors | Before the accumulation of 20,000 total flight cycles, or within 2,000 flight cycles after the effective date of this AD, whichever occurs later | Do rotating probe inspections at intervals not to exceed 6,000 flight cycles.
(2) The lower corners of the forward doors | Before the accumulation of 20,000 total flight cycles, or within 4,000 flight cycles after the effective date of this AD, whichever occurs later | Do rotating probe inspections at intervals not to exceed 10,000 flight cycles.
(3) The upper and lower corners and parts underneath the corners of the upper door frames of the aft doors | Before the accumulation of 20,000 total flight cycles, or within 4,000 flight cycles after the effective date of this AD, whichever occurs later | Do rotating probe inspections at intervals not to exceed 8,000 flight cycles or do x-ray inspections at intervals not to exceed 3,500 flight cycles; and do general visual inspections of areas around fasteners in vicinity of stringer 12 of the upper door frames at intervals not to exceed 6,900 flight cycles.

Note 1: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

Corrective Actions

(i) If any crack or corrosion is found during any inspection required by this AD, before further flight, do the applicable corrective action in paragraph (i)(1) through (i)(3) of Table 4 of this AD, except as provided by paragraph (j) of this AD.

Table 4.—Corrective Actions
If— | Then— | In accordance with the accomplishment instructions of—
(1) Any crack or corrosion is found during any inspection required by paragraph (f) of this AD | Repair the cracked or corroded part | Airbus Service Bulletin A310-53-2030, Revision 06, dated July 2, 1996.
(2) Any crack or corrosion is found during any repetitive inspection required by paragraph (g) of this AD | Repair the cracked or corroded part | Airbus Service Bulletin A310-53-2041, Revision 02, dated July 2, 1996.
(3) Any crack is found during any inspection required by paragraph (h) of this AD | Repair the cracked part | Airbus Service Bulletin A310-53-2037, Revision 02, dated November 27, 2000.

(j) If any crack or corrosion is found during any inspection required by this AD, and the service bulletin recommends contacting Airbus for appropriate action: Before further flight, repair the cracked or corroded part in accordance with a method approved by either the Manager, International Branch, ANM-116, FAA, Transport Airplane Directorate; or the Direction Générale de l'Aviation Civile (DGAC) (or its delegated agent).

Terminating Modification for Repetitive Inspection of Corner Doublers, Fail-Safe Ring, and Door Frames

(k) Modify the passenger/crew door structures in accordance with the Accomplishment Instructions of Airbus Service Bulletin A310-53-2017, Revision 09, dated May 17, 2004. Do the modification at the applicable time in paragraph (k)(1) or (k)(2) of Table 5 of this AD. Accomplishment of this modification constitutes terminating action for the repetitive inspections required by paragraph (h) of this AD. The inspections required by paragraph (f) of this AD must be done before accomplishing this modification.

Table 5.—Compliance Time for Terminating Modification
For model— | Compliance time
(1) A310-203, -204, -221, and -222 airplanes | Before the accumulation of 40,000 flight cycles since the date of issuance of the original standard Airworthiness Certificate or the date of issuance of the original Export Certificate of Airworthiness, or during the next inspection required by paragraph (h) of this AD, whichever occurs later.
(2) A310-304, -322, -324, and -325 airplanes | Before the accumulation of 35,000 flight cycles since the date of issuance of the original standard Airworthiness Certificate or the date of issuance of the original Export Certificate of Airworthiness, or during the next inspection required by paragraph (h) of this AD, whichever occurs later.

Alternative Methods of Compliance (AMOCs)

(l)(1) The Manager, International Branch, ANM-116, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(m) French airworthiness directives 1991-132-124(B) R1, issued November 29, 2000, and F-2004-103, issued July 7, 2004, also address the subject of this AD.

Issued in Renton, Washington, on November 9, 2005.
Kalene C. Yanamura,
Acting Manager, Transport Airplane Directorate, Aircraft Certification Service.

[FR Doc. 05-22971 Filed 11-18-05; 8:45 am]

BILLING CODE 4910-13-P